DEPARTMENT OF TRANSPORTATION

National Highway Traffic Safety Administration

[Docket No. NHTSA-2004-18541; Notice 1]

Michelin North America, Inc., Receipt of Petition for Decision of Inconsequential Noncompliance

Michelin North America, Inc. (Michelin) has determined that certain tires it manufactured in 2004 do not comply with S6.5(f) of Federal Motor Vehicle Safety Standard (FMVSS) No. 119, “New pneumatic tires for vehicles other than passenger cars.” Michelin has filed an appropriate report pursuant to 49 CFR part 573, “Defect and Noncompliance Reports.”

Pursuant to 49 U.S.C. 30118(d) and 30120(h), Michelin has petitioned for an exemption from the notification and remedy requirements of 49 U.S.C. chapter 301 on the basis that this noncompliance is inconsequential to motor vehicle safety.

This notice of receipt of Michelin's petition is published under 49 U.S.C. 30118 and 30120 and does not represent any agency decision or other exercise of judgment concerning the merits of the petition.

Michelin produced approximately 278 Uniroyal Laredo HD/H Load Range D size LT215/85R16 tires during the period from March 30, 2004, to April 30, 2004, that do not comply with FMVSS No. 119, S6.5(f). These tires were marked “tread plies: 2 polyester + 2 steel + 1 nylon; sidewall plies: 2 polyester.” They should have been marked “tread plies: 2 polyester + 2 steel; sidewall plies: 2 polyester.”

S6.5(f) of FMVSS No. 119 requires that each tire shall be marked on each sidewall with “the actual number of plies and the composition of the ply cord material in the sidewall and, if different, in the tread area.”

Michelin believes that the noncompliance is inconsequential to motor vehicle safety and that no corrective action is warranted. Michelin cites a number of cases in which NHTSA granted exemption petitions for similar ply labeling noncompliances, located at 66 FR 63009 (actually 66 FR 63090) (12/04/2001), 66 FR 49254 (09/26/2001), 66 FR 47518 (02/12/2001), 66 FR 41931 (08/02/2001), 67 FR 1399 (01/10/2002), and 69 FR 12195 (03/15/2004). Michelin states:

The Agency has reviewed the impact of tire label information on safety in the context of its rulemaking efforts under the Transportation Recall, Enhancement, Accountability and Documentation (TREAD) Act. This analysis concluded that tire construction information is not relied upon by dealers and consumers in the purchasing or selling of tires and has an inconsequential impact on motor vehicle safety * * * [Comments on the Agency's NPRM] indicated that the tire construction labeling requirements * * * provide little or no safety value to the general public since most consumers do not understand tire construction technology * * * The Agency concluded * * * that it is likely that few consumers are influenced by the tire construction labeling information when making a motor vehicle or tire purchase decision, and that such information is not relied upon by consumers in evaluating the strength and durability of tires.

Michelin also states that, because the tire sidewalls are not of steel cord construction, but are actually polyester, there is no potential safety concern for people working in the tire retread, repair, and recycling industries.

Michelin asserts that the tires meet or exceed all performance requirements of FMVSS No. 119, and that the noncompliance has no effect on the performance of the tires or motor vehicle safety. Michelin has corrected the problem.

Interested persons are invited to submit written data, views, and arguments on the petition described above. Comments must refer to the docket and notice number cited at the beginning of this notice and be submitted by any of the following methods. Mail: Docket Management Facility, U.S. Department of Transportation, Nassif Building, Room Pub. L. 401, 400 Seventh Street, SW., Washington, DC 20590-0001. Hand delivery: Room Pub. L. 401 on the plaza level of the Nassif Building, 400 Seventh Street, SW., Washington, DC. It is requested, but not required, that two copies of the comments be provided. The Docket Section is open on weekdays from 10 a.m. to 5 p.m. except Federal holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: August 5, 2004.

Authority: 49 U.S.C. 30118, 30120: delegations of authority at CFR 1.50 and 501.8.

Issued on: June 28, 2004.
Kenneth N. Weinstein,
Associate Administrator for Enforcement.

[FR Doc. 04-15160 Filed 7-2-04; 8:45 am]

BILLING CODE 4910-59-P